DEPARTMENT OF THE INTERIOR

National Park Service

[NPS-WASO-CR-4426; PPWOCRADP3, PCU00RP14.R50000; OMB Control Number 1024-0038]

Agency Information Collection Activities; Submission to the Office of Management and Budget for Review and Approval; Procedures for State, Tribal, and Local Government Historic Preservation Programs

AGENCY: National Park Service, Interior.

ACTION: Notice of information collection; request for comments.

SUMMARY: In accordance with the Paperwork Reduction Act of 1995, the National Park Service is proposing to renew an information collection.

DATES: Interested persons are invited to submit comments on or before November 27, 2017.

ADDRESSES: Send written comments on this information collection request (ICR) to the Office of Management and Budget's Desk Officer for the Department of the Interior by email at OIRA_Submission@omb.eop.gov; or via facsimile to (202) 395-5806. Please provide a copy of your comments to Tim Goddard, Information Collection Clearance Officer, National Park Service, 12201 Sunrise Valley Drive, MS-242, Reston, VA 20192 (mail); or tim_goddard@nps.gov (email). Please reference OMB Control Number 1024-0038 in the subject line of your comments.

FOR FURTHER INFORMATION CONTACT: To request additional information about this ICR, contact Kristine Brunsman by email at Kristine_Brunsman@nps.gov, or by telephone at (202) 354-2153. You may also view the ICR at http://www.reginfo.gov/public/do/PRAMain.

SUPPLEMENTARY INFORMATION: We, the National Park Service (NPS), in accordance with the Paperwork Reduction Act of 1995, provide the general public and other Federal agencies with an opportunity to comment on proposed, revised, and continuing collections of information. This helps us assess the impact of our information collection requirements and minimize the public's reporting burden. It also helps the public understand our information collection requirements and provide the requested data in the desired format.

A Federal Register notice with a 60-day public comment period soliciting comments on this collection of information was published on July 26, 2017 (82 FR 34688). No comments were received.

We are again soliciting comments on the proposed ICR that is described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

An agency may not conduct or sponsor and a person is not required to respond to a collection of information unless it displays a currently valid OMB control number.

Title of Collection: Procedures for State, Tribal, and Local Government Historic Preservation Programs.

OMB Control Number: 1024-0038.

Form Number: None.

Type of Review: Extension of a currently approved collection.

Respondents/Affected Public: State, tribal, and local governments.

Total Estimated Number of Annual Responses: 43,108.

Total Estimated Number of Annual Burden Hours: 40,761.

Total Estimated Number of Annual Respondents: 2,229.

Estimated Completion Time per Response: Varies from 15 minutes to 166 hours, depending on activity.

Respondent's Obligation: Required to Obtain or Retain a Benefit.

Frequency of Collection: Annually or on occasion.

Total Estimated Annual Nonhour Burden Cost: $0.00.

Abstract: This set of information collections has an impact on State, Tribal, and local governments that wish to participate formally with the NPS in the National Historic Preservation Partnership (NHPP) Program, and State and Tribal governments that wish to apply for Historic Preservation Fund (HPF) grants. The NPS uses the information collections to ensure compliance with the National Historic Preservation Act, as amended (54 U.S.C. 300101, et seq.), as well as government-wide grant requirements OMB has issued and the Department of the Interior implements through 43 CFR part 12. The information collections also produce performance data NPS uses to assess its progress in meeting its statutory mission goals pursuant to the 1993 Government Performance and Results Act, as amended. This request for OMB approval includes local government burden for information collections associated with various aspects of the Certified Local Government (CLG) program; State government burden for information collections related to the CLG program; the program-specific aspects of HPF grants to States, maintenance of a State inventory of historic and prehistoric properties, tracking State Historic Preservation Office historic preservation consultation with Federal agencies, developing the Statewide Historic Preservation Plan, reporting on other State historic preservation accomplishments, the State role in the State program review process, and evaluating NPS-provided program, grants management, and CLG training for State officials; and Tribal government burden for information collections related to the program-specific aspects of HPF grants to Tribal Historic Preservation Officers/Offices (THPOs).

This request includes information collections related to HPF grants to States and to THPOs. Section 101(b) of the National Historic Preservation Act, as amended, (54 U.S.C. 302301), specifies the role of States in the NHPP Program. Section 101(c), section 103(c), and section 301 of the Act (54 U.S.C. 302502, 54 U.S.C. 302902, and 54 U.S.C. 300301), specify the role of local governments in the NHPP program. Section 101(d) of the Act (54 U.S.C. 302701) specifies the role of tribes in the NHPP Program. Section 108 of the Act (54 U.S.C. 303101) created the HPF to support activities that carry out the purposes of the Act. Section 101(e)(1) of the Act (54 U.S.C. 302902) directs the Secretary of the Interior through the NPS to “administer a program of matching grants to the States for the purposes of carrying out” the Act. Similarly, sections 101(d) and 101(e) of the Act direct the NPS to administer a program of grants to THPOs for carrying out their responsibilities under the Act. Section 101j of the Act (54 U.S.C. 303903) directs the NPS to provide historic preservation-related education and training.

Each year Congress directs the NPS to use part of the annual appropriation from the HPF for the State grant program and the Tribal grant programs. The purpose of both the HPF State grant program and the HPF THPO grant program is to assist States and Tribes in carrying out their statutory role in the national historic preservation program. HPF grants to States and THPOs are program grants; i.e., each State/THPO selects its own HPF-eligible activities and projects. Each HPF grant to a State/THPO has two years of fund availability. At the end of the first year, the NPS employs a “Use or Lose” policy to ensure efficient and effective use of the grant funds. All 59 states, territories, and the District of Columbia participate in the NHPP Program. Almost 2,000 local governments have become Certified Local Governments (CLGs) in order to participate in the NHPP program. Approximately 30 local governments become CLGs each year. Almost 170 federally-recognized tribes have formally joined the NHPP Program and have established THPOs and tribal historic preservation offices. Typically, each year six to nine tribes join the partnership.

The NPS developed the information collections associated with 36 CFR part 61 in consultation with State, Tribal, and local government partners. The obligation to respond is required to provide information to evaluate whether or not State, Tribal, and local governments meet minimum standards and requirements for participation in the National Historic Preservation Program; and to meet program specific requirements as well as government-wide requirements for Federal grant programs.

The authorities for this action are the National Historic Preservation Act (NHPA) (54 U.S.C. 300101 et seq.) and the Paperwork Reduction Act of 1995 (44 U.S.C. 3501 et seq.).

Tim Goddard,
Information Collection Clearance Officer, National Park Service.

[FR Doc. 2017-23268 Filed 10-25-17; 8:45 am]

BILLING CODE 4312-52-P